NATIONAL AERONAUTICS AND SPACE ADMINISTRATION

[NOTICE: (19-074)]

Notice of Availability of the Draft Supplemental Environmental Impact Statement (SEIS) for Soil Cleanup Activities at Santa Susana Field Laboratory

AGENCY: National Aeronautics and Space Administration (NASA).

ACTION: Notice of Availability of the Draft Supplemental Environmental Impact Statement (SEIS) to the March 2014 Final Environmental Impact Statement (FEIS) for demolition and environmental cleanup activities for the NASA-administered portion of the Santa Susana Field Laboratory (SSFL), Ventura County, California. This SEIS will cover the soil cleanup activities at NASA's portion of SSFL.

SUMMARY: Pursuant to the National Environmental Policy Act (NEPA), as amended, the Council on Environmental Quality Regulations for Implementing the Procedural Provisions of NEPA, and NASA's NEPA policy and procedures, NASA has prepared a Draft SEIS for soil cleanup activities at SSFL in Ventura County, California. The Draft SEIS has been prepared because there are significant new circumstances relevant to environmental concerns bearing on the proposed action and its impacts. Specifically, the estimated quantity of soil required to be removed has increased substantially since the publication of the 2014 FEIS. This increase has the potential to alter the environmental impacts that were evaluated in the 2014 FEIS. For this reason, NASA has determined it is appropriate to prepare a supplement to the 2014 FEIS.

DATES: Interested parties are invited to submit comments, preferably in writing, within forty-five (45) calendar days from the date of publication in the Federal Register of the Notice of Availability of the Draft SEIS on October 25, 2019.

ADDRESSES: Comments submitted by mail should be addressed to Peter Zorba, SSFL Project Director, 5800 Woolsey Canyon Road, Canoga Park, CA 91304. Comments may be submitted via email to msfc-ssfl-eis@mail.nasa.gov. The Draft SEIS may be reviewed at the following locations:

1. Simi Valley Library, 2969 Tapo Canyon Road, Simi Valley, CA 93063, Phone: (805) 526-1735.

2. Platt Library, 23600 Victory Blvd., Woodland Hills, CA 91367, Phone: (818) 340-9386.

3. California State University, Northridge Oviatt Library, 18111 Nordhoff Street, 2nd Floor, Room 265, Northridge, CA 91330, Phone: (818) 677-2285.

4. Department of Toxic Substances Control, 9211 Oakdale Avenue, Chatsworth, CA 91311, Phone: (818) 717-6521.

The Draft SEIS is also available on the internet at https://www.nasa.gov/feature/environmental-impact-statement-eis-for-demolition-and-environmental-cleanup-activities. The Federal Register Notice of Intent to prepare the Draft SEIS, issued in the Federal Register on April 5, 2019, is also available on the internet at: https://ssfl.msfc.nasa.gov/news#news20190405.

FOR FURTHER INFORMATION CONTACT: Peter Zorba, SSFL Project Director, by email at msfc-ssfl-information@mail.nasa.gov. Additional information about NASA's SSFL site, the proposed soil cleanup activities, and the associated planning process and documentation (as available) may be found on the internet at https://ssfl.msfc.nasa.gov or on the California Department of Toxic Substances Control (DTSC) website at https://www.dtsc.ca.gov/SiteCleanup/Santa_Susana_Field_Lab/.

SUPPLEMENTARY INFORMATION: The purpose of this Notice is to announce the issuance and public availability of the Draft SEIS for review and comment, establish a 45 calendar day comment period, inform the public of where the document may be reviewed and comments can be submitted, and the date and time of public meetings. The Draft SEIS is intended to inform NASA decision makers, regulating agencies, and the public about the environmental impact of proposed soil cleanup in the NASA-administered portion of SSFL. The SSFL site is 2,850 acres located in Ventura County, California, approximately seven miles northwest of Canoga Park and approximately 30 miles northwest of downtown Los Angeles. SSFL is located near the crest of the Simi Hills, which are part of the Santa Monica Mountains running east-west across Southern California. The diverse terrain consists of ridges, canyons, and sandstone rock outcrops. SSFL is composed of four areas known as Areas I, II, III, and IV and two “undeveloped” areas. The NASA-administered portion is 41.7 acres within Area I and all 409.5 acres of Area II. The Boeing Company (Boeing) owns the remaining 2,398.8 acres within Areas I, III, IV, and the two undeveloped areas. The Department of Energy (DOE) is responsible for building demolition and cleanup of soils and groundwater in Area IV and the Northern Buffer Zone.

Since the mid-1950s, when the federal government portion of SSFL was administered by the U.S. Air Force, this site has been used for developing and testing rocket engines. Four test stand complexes were constructed in Area II between 1954 and 1957 named Alfa, Bravo, Coca, and Delta. These test stand areas along with the Liquid Oxygen (LOX) Plant portion of Area I were acquired by NASA from the U.S. Air Force in the 1970s.

The NASA-administered portion of SSFL contain historical and cultural resources associated with rocket development, along with a number of significant archeological sites. NASA has conducted several surveys to identify and locate archeological and architectural resources within its administered portion of SSFL. NASA has identified the Burro Flats Cultural District, which is listed on the National Register of Historic Places (NRHP), as well as other various archeological sites, buildings, and structures that are either individually eligible for listing on the NRHP or are elements of NRHP-eligible historic districts containing multiple architectural resources. In 2014, NASA entered into a Programmatic Agreement with the California State Historic Preservation Officer, the Advisory Council for Historic Preservation, and the Santa Ynez Band of Chumash Indians. The Programmatic Agreement stipulates the cultural resource management measures that must be implemented before, during, and after all cleanup activities.

Environmental Commitments and Associated Environmental Review: Rocket engine testing has been discontinued at these sites and the property has been excessed to the General Services Administration (GSA). GSA has conditionally accepted the Report of Excess pending certain environmental cleanup requirements are met.

In 2007, a Consent Order among NASA, Boeing, the U.S. Department of Energy, and DTSC was signed addressing demolition of certain infrastructure and environmental cleanup of SSFL. NASA entered into an Administrative Order on Consent (AOC) for Remedial Action with DTSC on December 6, 2010, “to further define and make more specific NASA's obligations with respect to the cleanup of soils at the Site.” Based on the 2010 Order, NASA is required to complete a federal environmental review pursuant to NEPA and NASA Procedural Requirement (NPR) 8580.1.

NASA completed an FEIS for demolition of site infrastructure, soil cleanup, and groundwater remediation within Area II and a portion of Area I (former LOX Plant) of SSFL on March 14, 2014 (79 FR 14545). NASA subsequently issued a Record of Decision (ROD) for building demolition on April 25, 2014. A ROD for groundwater cleanup was published in the Federal Register on October 17, 2018. This Draft SEIS has been prepared by NASA for soil cleanup within its administered portion of SSFL.

Alternatives: NASA is committed to achieving an environmental cleanup that is protective of public health and the environment and the stewardship of the site's natural and cultural resources. The Draft SEIS considers the following range of alternatives that meet NASA's objectives to clean up soil at the portion of the SSFL site administered by NASA.

• Alternative A: Soil Cleanup to AOC Look Up Table (LUT) Values (similar to the Proposed Action from the 2014 FEIS with the impacts of increased soil volumes considered)

• Alternative B: Soil Cleanup to Revised AOC LUT Values (revisions to LUT values reflect standard California Water Board and California Human Health screening values)

• Alternative C: Soil Cleanup to Suburban Residential Cleanup Goals (based on the DTSC-approved Standardized Risk Assessment Methodology (SRAM) Revision 2 Addendum, U.S. Environmental Protection Agency (EPA) risk assessment guidelines for residential land use, and California Environmental Protection Agency (Cal EPA) risk assessment guidance)

• Alternative D: Soil Cleanup to Recreational Cleanup Goals (based on DTSC-approved SRAM Revision 2 Addendum, EPA risk assessment guidelines for recreational land use, and Cal EPA risk assessment guidance)

A No Action alternative, which is required per 40 CFR part 1500, was also included in the analysis, though it would not meet the cleanup goals.

Public Meetings: NASA plans to hold two public meetings to receive comments on the Draft SEIS regarding alternatives and environmental issues to be considered in the Final SEIS. The public meetings are scheduled as follows:

1. Best Western Posada Royale, Wednesday, November 20th, 2019 from 6:30-8:30 p.m., 1775 Madera Road, Simi Valley, CA 93065

2. Corporate Pointe at West Hill, Thursday, November 21st, 2019 from 6:30-8:30 p.m., 8411 Fallbrook Avenue, West Hills, CA 91304

NASA will consider all comments received in developing its Final SEIS; comments received and responses to comments will be included in the Final document. In conclusion, written public input on environmental issues and concerns associated with NASA's cleanup of SSFL are hereby requested.

Calvin F. Williams,
Assistant Administrator, Office of Strategic Infrastructure.

[FR Doc. 2019-23364 Filed 10-24-19; 8:45 am]

BILLING CODE 7510-13-P